DEPARTMENT OF COMMERCE

Foreign-Trade Zones Board

(Docket 14-2007)

Foreign-Trade Zone 124 -- Gramercy, Louisiana, Application for Subzone, M-I L.L.C. (Barite Grinding and Milling), Amelia, Louisiana

An application has been submitted to the Foreign-Trade Zones Board (the Board) by the Port of South Louisiana, grantee of Foreign-Trade Zone (FTZ) 124, requesting special-purpose subzone status for the barite grinding and milling facilities of M-I L.L.C. (M-I), located in Amelia, Louisiana. The application was submitted pursuant to the provisions of the Foreign-Trade Zones Act, as amended (19 U.S.C. 81a-81u), and the regulations of the Board (15 CFR Part 400). It was formally filed on April 16, 2007.

The M-I facilities (40 acres, 58 employees) are located at 2150 Highway 662 N, in Amelia, adjacent to the Gramercy Customs and Border Protection port of entry. The M-I facilities are used for manufacturing, warehousing and distribution activities related to the grinding and milling of raw barite into ground barite (up to 483,840 tons annually). Ground barite is used in the production of drilling fluids (drilling mud) and various specialty chemicals for use by the oil and gas exploration industry. M-I sources the majority of its raw barite from abroad. The duty rate on the imported raw barite is $1.25 per ton.

This application requests authority for M-I to conduct the activity under FTZ procedures, which would exempt M-I from Customs duty payments on the barite used in export production. Less than 3 percent of production is exported. On domestic sales, the company could choose the lower duty rate (duty-free) that applies to the ground barite. M-I also anticipates realizing additional savings on materials that become scrap/waste during production. The application indicates that the FTZ-related savings would improve the plant's international competitiveness.

In accordance with the Board's regulations, a member of the FTZ staff has been designated examiner to investigate the application and report to the Board.

Public comment is invited from interested parties. Submissions (original and 3 copies) shall be addressed to the Board's Executive Secretary at the address listed below. The closing period for their receipt is June 25, 2007. Rebuttal comments in response to material submitted during the foregoing period may be submitted during the subsequent 15-day period (to July 9, 2007).

A copy of the application and accompanying exhibits will be available at each of the following addresses: Port of South Louisiana, 171 Belle Terre Blvd., P.O. Box 909, LaPlace, LA 70069; and, Office of the Executive Secretary, Foreign-Trade Zones Board, Room 2814B, U.S. Department of Commerce, 1401 Constitution Ave, NW., Washington, DC 20230. For further information contact Christopher Kemp at christopher_kemp@ita.doc.gov or (202) 482-0862.

Dated: April 16, 2007.
Andrew McGilvray,
Executive Secretary.

[FR Doc. E7-7784 Filed 4-23-07; 8:45 am]

BILLING CODE 3510-DS-S